DEPARTMENT OF THE INTERIOR

Bureau of Land Management

[ID-957-1420-BJ]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat constituting the entire survey record of the dependent resurvey of portions of the south boundary and subdivisional lines, and the subdivision of section 35, T. 15 S., R. 35 E., Boise Meridian, Idaho, Group Number 1249, was accepted July 2, 2008.

The plat constituting the entire survey record of the dependent resurvey of a portion of the subdivisional lines and the subdivision of section 17 (the E. and W. center line), T. 9 S., R. 28 E., Boise Meridian, Idaho, Group Number 1253, was accepted July 2, 2008.

The plat representing the dependent resurvey of portions of the north and east boundaries and subdivisional lines, and the subdivision of section 1, in T. 47 N., R. 4 E., Boise Meridian, Idaho, Group Number 1246, was accepted July 16, 2008.

The supplemental plat, of section 17, T. 2 N., R. 43 E., Boise Meridian, Idaho, was prepared to show new lots, was accepted August 12, 2008.

The plat representing the dependent resurvey of portions of the north boundary and subdivisional lines, and the subdivision of section 4, T. 5 S., R. 12 E., Boise Meridian, Idaho, Group Number 1244, was accepted August 28, 2008.

The plat representing the dependent resurvey of portions of the east boundary and subdivisional lines, and the subdivision of section 12 and the metes-and-bounds survey of the line between lots 6 and 7, section 12, T. 6 S., R. 17 E., Boise Meridian, Idaho, Group Number 1259, was accepted August 29, 2008.

The plat constituting the entire survey record of the dependent resurvey of a portion of the subdivision of section 2, T. 6 S., R. 8 E., Boise Meridian, Idaho, Group Number 1262, was accepted September 4, 2008.

The plat representing the dependent resurvey of portions of the Tenth Standard Parallel North (south boundary), subdivisional lines, portions of the boundaries of Mineral Survey Number 3251, and the subdivision of sections 34 and 35, T. 48 N., R. 5 E., Boise Meridian, Idaho, Group Number 1228, was accepted September 25, 2008.

The plat representing the dependent resurvey of a portion east boundary, a portion of the subdivisional lines, and the 1915-1916 right bank meanders of the Snake River in section 19, and the subdivision of sections 19, 20, and 21, in T. 9 S., R. 17 E., Boise Meridian, Idaho, Group Number 1247, was accepted November 25, 2008.

The supplemental plat, amending certain lots in sections 34 and 35, T. 6 N., R. 11 E., Boise Meridian, Idaho, was prepared to meet certain administrative needs of the Bureau of Land Management, was accepted December 9, 2008.

These surveys were executed at the request of the USDA Forest Service to meet certain administrative and management purposes. The lands surveyed are:

The plat representing the dependent resurvey of a portion of the subdivisional lines, and the extension survey of a portion of the subdivisional lines, in T. 12 N., R.38 E., Boise Meridian, Idaho, Group Number 1234, was accepted July 23, 2008.

The plat representing the dependent resurvey of portions of the First Guide Meridian East (west boundary) and subdivisional lines, Township 13 North, Range 5 East, Boise Meridian, Idaho, Group Number 1255, was accepted July 23, 2008.

The plat constituting the entire survey record of the retracement of a portion of the subdivisional lines, T. 1 S., R. 9 E., Boise Meridian, Idaho, Group Number 1271, was accepted July 30, 2008.

The plat representing the metes and bounds survey in section 5, in T. 50 N., R. 4 E., Boise Meridian, Idaho, Group Number 1248, was accepted October 15, 2008.

These surveys were executed at the request of the Bureau of Indian Affairs to meet certain administrative and management purposes. The lands surveyed are:

The plat representing the dependent resurvey of portions of the south boundary and subdivisional lines, and the subdivision of section 33, T. 35 N., R. 1 E., Boise Meridian, Idaho, Group Number 1233, was accepted August 7, 2008.

The plat representing the dependent resurvey of the west boundary, portions of the New East Boundary of the Fort Hall Indian Reservation (east boundary), First Standard Parallel South (south boundary), north boundary, and subdivisional lines, and the subdivision of sections 1, 3, 4, 6, 7, 8, 11, 13, 16, 18, 19, 20, 21, 22, 23, 26, 27, 28, 29, 30, 31, 32, and 33, and the metes-and-bounds surveys of lot 6 in section 1, lots 5 and 6 in section 3, lot 1 in section 11, and lot 1 in section 16, Township 6 South, Range 33 East, Boise Meridian, Idaho. Idaho, Group Number 1231, was accepted September 30, 2008.

The plat representing the dependent resurvey of portions of the subdivisional lines, the 1889 meanders of the right bank of the Middle Fork of the Clearwater River, and subdivision of section 4, and the further subdivision of section 4, the survey of the 2007 partition line in section 4, certain metes-and-bounds surveys and the survey of a portion of the 2007 meanders of the right bank of the Middle Fork of the Clearwater River in section 4, T. 32 N., R. 4 E., Boise Meridian, Idaho, Group Number 1245, was accepted October 31, 2008.

This survey was executed at the request of the Department of the Air Force to meet certain administrative and management purposes. The lands surveyed are:

The plat representing the dependent resurvey of a portion of the north boundary and subdivisional lines, and the subdivision of sections 3, 5, 9 and 10, in T. 4 S., R. 5 E., Boise Meridian, Idaho, Group Number 1242, was accepted September 22, 2008.

Dated: January 15, 2009.
Stanley G. French,
Chief Cadastral Surveyor for Idaho.

[FR Doc. E9-1388 Filed 1-22-09; 8:45 am]

BILLING CODE 4310-GG-P